SECURITIES AND EXCHANGE COMMISSION

[Release No. 34-83763; File No. SR-CHX-2018-001]

Self-Regulatory Organizations; Chicago Stock Exchange, Inc.; Notice of Withdrawal of a Proposed Rule Change To Adopt the Route QCT Cross Routing Option

August 2, 2018.

On March 6, 2018, the Chicago Stock Exchange, Inc. (“Exchange”) filed with the Securities and Exchange Commission (“Commission”), pursuant to Section 19(b)(1) of the Securities Exchange Act of 1934 (“Exchange Act”) ¹ and Rule 19b-4 thereunder,² a proposed rule change to adopt the Route QCT Cross routing option. The proposed rule change was published for comment in the Federal Register on March 20, 2018.³ On May 1, 2018, pursuant to Section 19(b)(2) of the Exchange Act,⁴ the Commission designated a longer period within which to approve the proposed rule change, disapprove the proposed rule change, or institute proceedings to determine whether to disapprove the proposed rule change.⁵ On June 13, 2018, the Commission instituted proceedings under Section 19(b)(2)(B) of the Exchange Act ⁶ to determine whether to approve or disapprove the proposed rule change.⁷ The Commission received one comment letter on the proposed rule change.⁸

¹ 15 U.S.C. 78s(b)(1).

² 17 CFR 240.19b-4.

³ See Securities Exchange Act Release No. 82870 (March 14, 2018), 83 FR 12214.

⁴ 15 U.S.C. 78s(b)(2).

⁵ See Securities Exchange Act Release No. 83143, 83 FR 20123 (May 7, 2018).

⁶ 15 U.S.C. 78s(b)(2)(B).

⁷ See Securities Exchange Act Release No. 83425, 83 FR 28477 (June 19, 2018).

⁸ See letter from Tracy Richardson, Tribal Technology Trade Inc., dated June 14, 2018, available at https://www.sec.gov/comments/sr-chx-2018-001/chx2018001.htm.

On July 26, 2018, the Exchange withdrew the proposed rule change (SR-CHX-2018-001).

For the Commission, by the Division of Trading and Markets, pursuant to delegated authority.⁹
⁹ 17 CFR 200.30-3(a)(12).
Eduardo A. Aleman,
Assistant Secretary.

[FR Doc. 2018-16889 Filed 8-7-18; 8:45 am]

BILLING CODE 8011-01-P